DEPARTMENT OF STATE

[Public Notice 9933]

Notice of Public Meeting of the President's Emergency Plan for AIDS Relief (PEPFAR) Scientific Advisory Board

Summary: In accordance with the Federal Advisory Committee Act (FACA), the PEPFAR Scientific Advisory Board (hereinafter referred to as “the Board”) will meet on Thursday, April 13, 2017 by teleconference. The meeting will last from 12:00 p.m. until approximately 1:00 p.m. ET and is open to the public.

The meeting will be hosted by the Office of the U.S. Global AIDS Coordinator and Health Diplomacy, and led by Ambassador Deborah Birx, who leads implementation of the President's Emergency Plan for AIDS Relief (PEPFAR), and the Board Chair, Dr. Carlos del Rio.

The Board serves the Global AIDS Coordinator in a solely advisory capacity concerning scientific, implementation, and policy issues related to the global response to HIV/AIDS. These issues will be of concern as they influence the priorities and direction of PEPFAR evaluation and research, the content of national and international strategies and implementation, and the role of PEPFAR in international discourse regarding an appropriate and resourced response. Topics for the meeting will include membership term and charter renewals; updates from standing Technical Working Groups; and the proposal for a prevention cascade project.

The public may join this teleconference meeting. Admittance to the meeting will be by means of a pre-arranged clearance list. In order to be placed on the list and, if applicable, to request reasonable accommodation, please register online via the following: https://goo.gl/forms/qjCOgGxfUh6yOkY22 no later than Monday, April 10, 2017. While the meeting is open to public attendance, the Board will determine procedures for public participation.

For further information about the meeting, please contact Dr. Ebony Coleman, Designated Federal Officer for the Board, Office of the U.S. Global AIDS Coordinator and Health Diplomacy at ColemanEM@state.gov.

Ebony Coleman,
Research and Science Technical Advisor, Office of the U.S. Global AIDS Coordinator and Health Diplomacy, Department of State.

[FR Doc. 2017-06155 Filed 3-28-17; 8:45 am]

BILLING CODE 4710-10-P